Title 3—

The President

Proclamation 10713 of March 22, 2024

Greek Independence Day: A National Day of Celebration of Greek and American Democracy, 2024

By the President of the United States of America

A Proclamation

On this day more than 200 years ago, revolutionaries throughout Greece rose up for the cause of freedom and declared their independence from the Ottoman Empire. Today, we honor the legacy of these courageous Greek women and men and rededicate ourselves to the cause of liberty and democracy for all.

Throughout our shared history, the people of Greece and the United States have been bound by this common belief—the power to shape our destiny should rest in the hands of “we the people.” Generation after generation, Americans and Greeks have come together to make those words a reality. We saw it during World War II, when our nations both fought the forces of fascism. We saw it during the Cold War, when our people stood united to prevail against communism. We see it today, as Greece and America stand together alongside a coalition of more than 50 nations to support the brave people of Ukraine as they fight for the same values those Greek revolutionaries did more than 200 years ago: liberty, freedom, and sovereignty.

Today, the partnership, alliance, and friendship shared by Greece and the United States is stronger than ever before—due in large part to the culture, courage, and character of the Greek American community. From standing up for social justice and advancing civil rights to striving to make our Nation freer and fairer, Greek Americans have pushed our country forward, fanning the flame of liberty that first sparked in Athens thousands of years ago. Throughout my career, I have been lucky to see this heart, hope, and commitment up close, and I have drawn lifelong inspiration from Greek American friends, families, leaders, and political mentors.

Today and every day, let us celebrate the unbreakable bonds of friendship shared by the United States and the Hellenic Republic. Let us continue to draw strength from the ideas put forth and the example set by our two countries. Guided by our highest hopes and ideals, let us recommit to preserving, defending, and protecting democracy—together.

NOW, THEREFORE, I, JOSEPH R. BIDEN JR., President of the United States of America, by virtue of the authority vested in me by the Constitution and the laws of the United States, do hereby proclaim March 25, 2024, as Greek Independence Day: A National Day of Celebration of Greek and American Democracy. I call upon the people of the United States to observe this day with appropriate ceremonies and activities.

IN WITNESS WHEREOF, I have hereunto set my hand this twenty-second day of March, in the year of our Lord two thousand twenty-four, and of the Independence of the United States of America the two hundred and forty-eighth.

[FR Doc. 2024-06658

Filed 3-26-24; 8:45 am]

Billing code 3395-F4-P